DEPARTMENT OF AGRICULTURE

Federal Crop Insurance Corporation

Request for Extension and Revision of a Currently Approved Information Collection

AGENCY: Federal Crop Insurance Corporation, Risk Management Agency (RMA), USDA.

ACTION: Notice and request for comments.

SUMMARY: In accordance with the Paperwork Reduction Act of 1995 (44 U.S.C. Chapter 35) this notice announces the Risk Management Agency's intention to request an extension and revision to a currently approved information collection for Notice of Funds Availability—Community Outreach and Assistance Partnership Program.

DATES: Comments on this notice will be accepted until close of business, October 31, 2011.

ADDRESSES: Interested persons are invited to submit comments by any of the following methods:

• By Mail to: Lana Cusick, Risk Management Education Division, USDA/RMA, 1400 Independence Avenue, SW., Room 6717-S, Stop 0808, Washington, DC 20250-0808.

• E-Mail: Lana.Cusick@rma.usda.gov.

All comments will be available for public inspection during regular business hours at the same address. All responses to this notice will be summarized and included in the request for OMB approval. All comments will also become a matter of public record.

FOR FURTHER INFORMATION CONTACT: Contact Lana Cusick, Risk Management Education Division, USDA/RMA, 1400 Independence Avenue, SW. Room 6717-S, Stop 0808, Washington, DC 20250-0808, telephone (202) 720-3325.

SUPPLEMENTARY INFORMATION: Title: Notice of Funds Availability—Community Outreach and Assistance Partnership Program.

OMB Number: 0563-0066.

Type of Request: Extension and revision of a currently approved information collection.

Abstract: The Federal Crop Insurance Corporation administers cooperative agreements that will be used to provide outreach and assistance to under-served agricultural producers such as women, limited resource, socially disadvantaged and other traditionally under-served farmers and ranchers (under-served agricultural producers). This package will be combined with another currently approved package 0563-0067 entitled, Risk Management and Crop Insurance Education; Risk for Applications when the package comes up for renewal in July 2012. With this submission, RMA seeks to obtain OMB's approval for an information collection project that will assist RMA in operating and evaluating these programs. The primary objective of the information collection projects is to enable RMA to better evaluate the performance capacity and plans of organizations that are applying for funds for cooperative agreements for the Community Outreach and Assistance Partnership Program.

This information collection package will be used for evaluating applications and awarding partnership agreements; applicants are required to submit materials and information necessary to evaluate and rate the merit of proposed projects and evaluate the capacity and qualification of the organization to complete the project

Estimate of Burden: The public reporting burden for this collection of information is estimated to average 6 hours per response per application.

Respondents/Affected Entities: Education institutions, community based and cooperative organizations, and non-profit organizations.

Estimated annual number of respondents: 150.

Estimated annual number of responses per respondent: 1.

Estimated annual number of responses: 150.

Estimated total annual burden on respondents: 900 hours.

Comments are invited on: (1) Whether the proposed collection of information is necessary for the proper performance of the functions of the agency, including whether the information will have practical utility; (2) the accuracy of the agency's estimate of the burden of the proposed collection of information; (3) ways to enhance the quality, utility, and clarity of the information to be collected; and (4) ways to minimize the burden of the collection of information on those who are to respond, through use, as appropriate, of automated, electronic, mechanical, or other collection technologies, e.g., permitting electronic submission of responses.

Signed in Washington, DC, on August 23, 2011.
Barbara Leach,
Associate Administrator, Federal Crop Insurance Corporation.

[FR Doc. 2011-22136 Filed 8-29-11; 8:45 am]

BILLING CODE 3410-08-P